DEPARTMENT OF TRANSPORTATION

Federal Aviation Administration

14 CFR Part 97

[Docket No. 30316; Amdt. No. 3011]

Standard Instrument Approach Procedures; Miscellaneous Amendments

AGENCY: Federal Aviation Administration (FAA), DOT.

ACTION: Final rule.

SUMMARY: This amendment establishes, amends, suspends, or revokes Standard Instrument Approach Procedures (SIAPs) for operations at certain airports. These regulatory actions are needed because of the adoption of new or revised criteria, or because of changes occurring in the National Airspace System, such as the commissioning of new navigational facilities, addition of new obstacles, or changes in air traffic requirements. These changes are designed to provide safe and efficient use of the navigable airspace and to promote safe flight operations under instrument flight rules at the affected airports.

EFFECTIVE DATES: An effective date for each SIAP is specified in the amendatory provisions.

Incorporation by reference-approved by the Director of the Federal Register on December 31, 1980, and reapproved as of January 1, 1982.

ADDRESSES: Availability of matters incorporated by reference in the amendment is as follows:

For Examination—

1. FAA Rules Docket, FAA Headquarters Building, 800 Independence Avenue, SW., Washington, DC 20591;

2. The FAA Regional Office of the region in which the affected airport is located; or

3. The Flight Inspection Area Office which originated the SIAP.

For Purchase—Individual SIAP copies may be obtained from:

1. FAA Public Inquiry Center (APA-200), FAA Headquarters Building, 800 Independence Avenue, SW., Washington, DC 20591; or

2. The FAA Regional Office of the region in which the affected airport is located.

By Subscription—Copies of all SIAPs, mailed once every 2 weeks, are for sale by the Superintendent of Documents, U.S. Government Printing Office, Washington, DC 20402.

FOR FURTHER INFORMATION CONTACT: Donald P. Pate, Flight Procedure Standards Branch (AMCAFS-420), Flight Technologies and Programs Division, Flight Standards Service Federal Aviation Administration, Mike Monroney Aeronautical Center, 6500 South MacArthur Blvd. Oklahoma City, OK. 73169 (Mail Address: P.O. Box 25082 Oklahoma City, OK. 73125) telephone: (405) 954-4164.

SUPPLEMENTARY INFORMATION: This amendment to part 97 of the Federal Aviation Regulations (14 CFR part 97) establishes, amends, suspends, or revokes Standard Instrument Approach Procedures (SIAPs). The complete regulatory description of each SIAP is contained in official FAA form documents which are incorporated by reference in this amendment under 5 U.S.C. 552(a), 1 CFR part 51, and § 97.20 of the Federal Aviation Regulations (FAR). The applicable FAA Forms are identified as FAA Forms 8260-3, 8260-4, and 8260-5. Materials incorporated by reference are available for examination or purchase as stated above.

The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained in FAA form documents is unnecessary. The provisions of this amendment state the affected CFR (and FAR) sections, with the types and effective dates of the SIAPs. This amendment also identifies the airport, its location, the procedure identification and the amendment number.

The Rule

This amendment to part 97 is effective upon publication of each separate SIAP as contained in the transmittal. Some SIAP amendments may have been previously issued by the FAA in a National Flight Data Center (NFDC) Notice to Airmen (NOTAM) as an emergency action of immediate flight safety relating directly to published aeronautical charts. The circumstances which created the need for some SIAP amendments may require making them effective in less than 30 days. For the remaining SIAPs, an effective date at least 30 days after publication is provided.

Further, the SIAPs contained in this amendment are based on the criteria contained in the U.S. Standard for Terminal Instrument Procedures (TERPS). In developing these SIAPs, the TERPS criteria were applied to the conditions existing or anticipated at the affected airports. Because of the close and immediate relationship between these SIAPs and safety in air commerce, I find that notice and public procedure before adopting these SIAPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR part 97

Air Traffic Control, Airports, Navigation (Air).

Issued in Washington, DC on June 21, 2002.
James J. Ballough,
Director, Flight Standards Service.

Adoption of the Amendment

Accordingly, pursuant to the authority delegated to me, part 97 of the Federal Aviation Regulations (14 CFR part 97) is amended by establishing, amending, suspending, or revoking Standard Instrument approach Procedures, effective at 0901 UTC on the dates specified, as follows:

PART 97—STANDARD INSTRUMENT APPROACH PROCEDURES

1. The authority citation for part 97 is revised to read as follows:

Authority: 49 U.S.C. 106(g), 40103, 40113, 40120, 44701; and 14 CFR 11.49(b)(2).

2. Part 97 is amended to read as follows:

§ 97.23, 97.25, 97.27, 97.29, 97.31, 97.33, 97.35 [Amended]

By amending: § 97.23 VOR, VOR/DME, VOR or TACAN, and VOR/DME or TACAN; § 97.25 LOC, LOC/DME, LDA, LDA/DME, SDF, SDF/DME; § 97.27 NDB, NDB/DME; § 97.29 ILS, ILS/DME, ISMLS, MLS, MLS/DME, MLS/RNAV; § 97.31 RADAR SIAPs; § 97.33 RNAV SIAPs; and § 97.35 COPTER SIAPs, identified as follows:

* * * Effective August 8, 2002

Atqasuk, AK, Atqasuk Edward Burnell Sr. Memorial, RNAV (GPS) RWY 6, Orig

Atqasuk, AK, Atqasuk Edward Burnell Sr. Memorial, RNAV (GPS) RWY 24, Orig

Atqasuk, AK, Atqasuk Edward Burnell Sr. Memorial, GPS RWY 6, Orig, CANCELLED

Atqasuk, AK, Atqasuk Edward Burnell Sr. Memorial, GPS RWY 24, Orig, CANCELLED

Nuiqsut, AK, Nuiqsut, RNAV (GPS) RWY 4, Orig,

Nuiqsut, AK, Nuiqsut, RNAV (GPS) RWY 22, Orig,

Nuiqsut, AK, Nuiqsut, GPS RWY 4, Orig, CANCELLED

Nuiqsut, AK, Nuiqsut, GPS RWY 22, Orig, CANCELLED

Searcy, AR, Searcy Muni, RNAV (GPS) RWY 1, Orig

Searcy, AR, Searcy Muni, RNAV (GPS) RWY 19, Orig

Searcy, AR, Searcy Muni, NDB RWY 1, Amdt 4

Searcy, AR, Searcy Muni, GPS RWY 19, Amdt 1B, CANCELLED

San Jose, CA, Reid-Hillview of Santa Clara County, RNAV (GPS) RWY 31R, Orig

Cortez, CO, Cortez Muni, VOR RWY 21, Amdt 5A

Sarasota (Bradenton), FL, Sarasota/Bradenton Intl, ILS RWY 14, Amdt 4

Sarasota (Bradenton), FL, Sarasota/Bradenton Intl, ILS RWY 32, Amdt 5

West Palm Beach, FL, Palm Beach Intl, VOR RWY 9L, Amdt 2A

West Palm Beach, FL, Palm Beach Intl, VOR RWY 13, Amdt 3A

West Palm Beach, FL, Palm Beach Intl, VOR RWY 27R, Amdt 2A

West Palm Beach, FL, Palm Beach Intl, VOR RWY 31, Amdt 4A

West Palm Beach, FL, Palm Beach Intl, RNAV (GPS) RWY 9L, Orig

West Palm Beach, FL, Palm Beach Intl, RNAV (GPS) RWY 13, Orig

West Palm Beach, FL, Palm Beach Intl, RNAV (GPS) RWY 27R, Orig

West Palm Beach, FL, Palm Beach Intl, RNAV (GPS) RWY 31, Orig

Savannah, GA, Savannah Intl, NDB RWY 9, Amdt 21

Savannah, GA, Savannah Intl, RNAV (GPS) RWY 9, Orig

Savannah, GA, Savannah Intl, GPS RWY 18, Orig-A, CANCELLED

Savannah, GA, Savannah Intl, RNAV (GPS) RWY 18, Orig

Savannah, GA, Savannah Intl, RNAV (GPS) RWY 27, Orig

Savannah, GA, Savannah Intl, RNAV (GPS) RWY 36, Orig

Cahokia/St. Louis, IL, St. Louis Downtown, ILS RWY 30L, Amdt 8

Junction City, KS, Freeman Field, RNAV (GPS) RWY 36, ORIG

Junction City, KS, Freeman Field, NDB RWY OR GPS-B, Amdt 4

Newton, KS, Newton-City County, VOR/DME-A, Amdt 2

Norton, KS, Norton Muni, NDB RWY 16, ORIG

Norton, KS, Norton Muni, NDB RWY 34, ORIG

Glasgow, KY, Glasgow Muni, VOR/DME RWY 7, Amdt 7

Glasgow, KY, Glasgow Muni, SDF RWY 7, Amdt 10

Glasgow, KY, Glasgow Muni, NDB RWY 7, Amdt 11

Glasgow, KY, Glasgow Muni, GPS RWY 25, Orig, CANCELLED

Glasgow, KY, Glasgow Muni, RNAV (GPS) RWY 25, Orig

Glasgow, KY, Glasgow Muni, RNAV (GPS) RWY 7, Orig

Detroit, MI, Detroit Metropolitan Wayne County, VOR RWY 22L, Amdt 1E

Detroit, MI, Detroit Metropolitan Wayne County, NDB RWY 27R, Amdt 10C

Detroit, MI, Detroit Metropolitan Wayne County, NDB RWY 4R, Amdt 10E

Detroit, MI, Detroit Metropolitan Wayne County, NDB RWY 3L, Amdt 12D

Detroit, MI, Detroit Metropolitan Wayne County, ILS RWY 27L, Amdt 2

Detroit, MI, Detroit Metropolitan Wayne County, ILS RWY 27R, Amdt 11

Detroit, MI, Detroit Metropolitan Wayne County, ILS RWY 22L, Amdt 27

Detroit, MI, Detroit Metropolitan Wayne County, ILS RWY 21L, Amdt 9

Detroit, MI, Detroit Metropolitan Wayne County, ILS RWY 4L, Amdt 1

Detroit, MI, Detroit Metropolitan Wayne County, ILS RWY 4R, Amdt 15

Detroit, MI, Detroit Metropolitan Wayne County, ILS RWY 3R, Amdt 14

Detroit, MI, Detroit Metropolitan Wayne County, RNAV (GPS) Z RWY 4R, Orig

Detroit, MI, Detroit Metropolitan Wayne County, RNAV (GPS) Z RWY 3R, Orig

Detroit, MI, Detroit Metropolitan Wayne County, RNAV (GPS) Y RWY 4R, Orig

Detroit, MI, Detroit Metropolitan Wayne County, RNAV (GPS) Y RWY 3R, Orig

Detroit, MI, Detroit Metropolitan Wayne County, RNAV (GPS) RWY 27L, Orig

Detroit, MI, Detroit Metropolitan Wayne County, RNAV (GPS) RWY 27R, Orig

Detroit, MI, Detroit Metropolitan Wayne County, RNAV (GPS) RWY 22L, Orig

Detroit, MI, Detroit Metropolitan Wayne County, RNAV (GPS) RWY 22R, Orig

Detroit, MI, Detroit Metropolitan Wayne County, RNAV (GPS) RWY 21L, Orig

Detroit, MI, Detroit Metropolitan Wayne County, RNAV (GPS) RWY 4L, Orig

Omaha, NE, Eppley Airfield, VOR RWY 32L, Amdt 11

Albuquerque, NM, Albuquerque Intl Sunport, ILS RWY 3, Amdt 1

New York, NY, Map Area 33, COPTER RNAV (GPS) 028 Orig

Raleigh-Durham, NC, Raleigh-Durham Intl, NDB RWY 5R, Amdt 20B

Raleigh-Durham, NC, Raleigh-Durham Intl, NDB RWY 23L, Amdt 5

Raleigh-Durham, NC, Raleigh-Durham Intl, VOR RWY 32, Amdt 3B

Newport, OR, Newport Muni, VOR/DME RWY 16, Amdt 8

Newport, OR, Newport Muni, VOR/DME RWY 34, Amdt 1

Newport, OR, Newport Muni, VOR-A, Amdt 4

Newport, OR, Newport Muni, NDB RWY 16, Amdt 1

Newport, OR, Newport Muni, RNAV (GPS) RWY 16, Orig

Newport, OR, Newport Muni, RNAV (GPS) RWY 34, Orig

Newport, OR, Newport Muni, ILS RWY 16, Amdt 1

San Juan, PR, Luis Munoz Marin Intl, VOR RWY 10, Orig

San Juan, PR, Luis Munoz Marin Intl, VOR RWY 8 and 10, Amdt 10, CANCELLED

San Juan, PR, Luis Munoz Marin Intl, VOR RWY 8, Orig

San Juan, PR, Luis Munoz Marin Intl, NDB RWY 8, Amdt 8

San Juan, PR, Luis Munoz Marin Intl, NDB RWY 10, Amdt 6

Jackson, OH, James A. Rhodes, VOR/DME-A, Amdt 1

Lancaster, SC, Lancaster County-McWhirter Fld, VOR/DME-A, Amdt 6

Lancaster, SC, Lancaster County-McWhirter Fld, NDB RWY 24, Amdt 4

Lancaster, SC, Lancaster County-McWhirter Fld, RNAV (GPS) RWY 6, Orig

Lancaster, SC, Lancaster County-McWhirter Fld, RNAV (GPS) RWY 24, Orig

Dallas-Fort Worth, TX, Dallas/Fort Worth International, ILS RWY 17L, Amdt 2

Dallas-Fort Worth, TX, Dallas/Fort Worth International, ILS RWY 18R, Amdt 6

Dallas-Fort Worth, TX, Dallas/Fort Worth International, Converging ILS RWY 18R, Amdt 4

Dallas-Fort Worth, TX, Dallas/Fort Worth International, RNAV (GPS) RWY 18R, Orig

Decatur, TX, Decatur Muni, VOR/DME RWY 17, Amdt 2

Harlingen, TX, Valley Intl, ILS RWY 17R, Amdt 12

Harlingen, TX, Valley Intl, LOC BC RWY 35L, Amdt 13

Harlingen, TX, Valley Intl, NDB RWY 17L, Amdt 6

Harlingen, TX, Valley Intl, NDB RWY 17R, Amdt 12

Houston, TX, Houston Gulf, VOR RWY 31, Amdt 1B, CANCELLED

Houston, TX, Houston Gulf, GPS RWY 31, Orig-A, CANCELLED

LaGrange, TX, Fayette Regional Air Center, VOR/DME-A, Amdt 1A

New Braunfels, TX, New Braunfels Muni, NDB-B, Amdt 1, CANCELLED

Rockwall, TX, Rockwall Muni, RNAV (GPS) RWY 17, Orig

Rockwall, TX, Rockwall Muni, RNAV (GPS) RWY 35, Orig

Rockwall, TX, Rockwall Muni, GPS RWY 16, Orig, CANCELLED

Rockwall, TX, Rockwall Muni, GPS RWY 34, Orig, CANCELLED

San Antonio, TX, San Antonio Intl, ILS RWY 3, Amdt 19

San Antonio, TX, San Antonio Intl, ILS RWY 12R, Amdt 13

San Antonio, TX, San Antonio Intl, ILS RWY 30L, Amdt 9

San Antonio, TX, San Antonio Intl, RNAV (GPS) RWY 3, Orig

San Antonio, TX, San Antonio Intl, RNAV (GPS) RWY 12R, Orig

San Antonio, TX, San Antonio Intl, RNAV (GPS) RWY 21, Orig

San Antonio, TX, San Antonio Intl, RNAV (GPS) RWY 30L, Orig

San Antonio, TX, San Antonio Intl, GPS RWY 3, Orig, CANCELLED

San Antonio, TX, San Antonio Intl, GPS RWY 30L, Orig, CANCELLED

San Antonio, TX, San Antonio Intl, GPS RWY 12R, Orig, CANCELLED

San Antonio, TX, San Antonio Intl, GPS RWY 21, Orig, CANCELLED

Roanoke, VA, Roanoke Regional/Woodrum Field, RADAR-1, Amdt 8, CANCELLED

Spokane, WA, Spokane Intl, VOR/DME RNAV RWY 21, ORIG-A, CANCELLED

*Madison, WI, Morey, VOR OR GPS-A, Amdt 6B, CANCELLED

*Madison, WI, Morey, VOR OR GPS-B, Amdt 5B, CANCELLED

*Madison, WI, Morey, VOR/DME RNAV OR GPS RWY 12, Amdt 3A, CANCELLED

*Middleton, WI, Morey, VOR-A, Orig

*Middleton, WI, Morey, VOR-B, Orig

*Middleton, WI, Morey, VOR/DME RNAV RWY 12, Orig

*Middleton, WI, Morey, RNAV (GPS) RWY 12, Orig

*Middleton, WI, Morey, RNAV (GPS) RWY 30, Orig

Solon Springs, WI, Solon Springs Muni, NDB RWY 19, Amdt 2A

Solon Springs, WI, Solon Springs Muni, RNAV (GPS) RWY 19, Orig

Tomahawk, WI, Tomahawk Regional, RNAV (GPS) RWY 9, Orig

Tomahawk, WI, Tomahawk Regional, RNAV (GPS) RWY 27, Orig

* City name change—I.E. Madison to Middleton

Note: The FAA published the following procedure in Docket No. 30311; Amdt. No. 3007 to Part 97 of the Federal Aviation Regulations (Vol. 67, FR No. 106, Page 38197; dated June 3, 2002) under section 97.23 effective August 8, 2002 which is hereby rescinded:

Temple, TX, Draughon-Miller Central Texas Region, LOC BC RWY 33, Amdt 4

The FAA published an Amendment in Docket No. 30313, Amdt. No. 3003 to Part 97 of the Federal Aviation Regulations (Vol. 67, FR No. 114, Page 40595; dated June 13, 2002) under section 97.33 effective August 8, 2002, which is hereby amended as follows:

Lockport, NY, North Buffalo Suburban, GPS RWY 28, Orig-A, CANCELLED

Nacogdoches, TX, A.L. Mangham Jr Regional, NDB RWY 36, Amdt 1A

Nacogdoches, TX, A.L. Mangham Jr Regional, NDB RWY 18, Amdt 1A

Nacogdoches, TX, A.L. Mangham Jr Regional, GPS RWY 33, Orig-A

Nacogdoches, TX, A.L. Mangham Jr Regional, GPS RWY 36, Orig-A

[FR Doc. 02-16388 Filed 6-27-02; 8:45 am]

BILLING CODE 4910-13-M